DEPARTMENT OF COMMERCE

National Oceanic and Atmospheric Administration

[I.D. 050701C]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will begin Monday, June 4, 2001 at 1 p.m. and may go into the evening until business for the day is completed. The meeting will reconvene from 8 a.m. to 5 p.m. Tuesday, June 5 through Thursday, June 7.

ADDRESSES: The meetings will be held at NMFS Northwest Regional Office, 7600 Sand Point Way NE., Building 1, Director's Conference Room, Seattle, WA; telephone: (206) 526-6120.

Council address: Pacific Fishery Management Council, 2130 SW Fifth Avenue, Suite 224, Portland, OR 97201.

FOR FURTHER INFORMATION CONTACT: Mr. Jim Glock, Groundfish Fishery Management Coordinator, (503) 326-6352.

SUPPLEMENTARY INFORMATION: The purpose of the GMT meeting is to prepare reports and technical advice for the upcoming Council meeting and in support of Council decisions. The GMT will discuss, receive reports, and/or prepare reports on the following topics during this working session, (1) inseason adjustments to 2001 trip limits and other management measures; (2) assignments relating to the groundfish strategic plan; (3) rebuilding plans for canary rockfish, cowcod, bocaccio, and lingcod; (4) draft widow and darkblotched rockfish rebuilding plans; (5) sablefish endorsement qualification; (6) marine recreational fisheries statistics survey update; (7) exempted fishing permit (EFP) applications; (8) mandatory retention of rockfish proposal; (9) work plan for 2001; (10) Amendment 14 (permit stacking): clarifications and corrections for 2002.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

The meeting is physically accessible to people with disabilities. Requests for sign language interpretation or other auxiliary aids should be directed to Ms. Carolyn Porter at (503) 326-6352 at least 5 days prior to the meeting date.

Dated: May 10, 2001.
Richard W. Surdi,
Acting Director, Office of Sustainable Fisheries, National Marine Fisheries Service.

[FR Doc. 01-12368 Filed 5-15-01; 8:45 am]

BILLING CODE 3510-22-S